INTERNATIONAL TRADE COMMISSION

[Investigation No. 731-TA-1380 (Final)]

Tapered Roller Bearings From Korea

Determination

On the basis of the record ¹ developed in the subject investigation, the United States International Trade Commission (“Commission”) determines, pursuant to the Tariff Act of 1930 (“the Act”), that an industry in the United States is not materially injured or threatened with material injury by reason of imports of tapered roller bearings from Korea that have been found by the U.S. Department of Commerce (“Commerce”) to be sold in the United States at less than fair value (“LTFV”).2 3

¹ The record is defined in sec. 207.2(f) of the Commission's Rules of Practice and Procedure (19 CFR 207.2(f)).

² 83 FR 29092 (June 22, 2018). Whether establishment of an industry in the United States is materially retarded is not an issue in this investigation.

³ Commissioner Rhonda K. Schmidtlein dissenting. Commissioner Jason E. Kearns did not participate in the determination in this investigation.

Background

The Commission, pursuant to section 735(b) of the Act (19 U.S.C. 1673d(b)), instituted this investigation effective June 28, 2017, following receipt of a petition filed with the Commission and Commerce by The Timken Company, North Canton, Ohio. The Commission scheduled the final phase of the investigation following notification of a preliminary determination by Commerce that imports of tapered roller bearings from Korea were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of February 27, 2018 (83 FR 8504). The hearing was held in Washington, DC, on June 5, 2018, and all persons who requested the opportunity were permitted to appear in person or by counsel.

The Commission made this determination pursuant to section 735(b) of the Act (19 U.S.C. 1673d(b)). It completed and filed its determination in this investigation on August 6, 2018. The views of the Commission are contained in USITC Publication 4806 (August 2018), entitled Tapered Roller Bearings from Korea: Investigation No. 731-TA-1380 (Final).

By order of the Commission.
Issued: August 6, 2018.
Lisa Barton,
Secretary to the Commission.

[FR Doc. 2018-17125 Filed 8-9-18; 8:45 am]

BILLING CODE 7020-02-P